DEPARTMENT OF DEFENSE

Defense Acquisition Regulations System

48 CFR Parts 202, 212, 215, and 252

RIN 0750-AI64

Defense Federal Acquisition Regulation Supplement: Evaluating Reasonableness of Price for Commercial Items (DFARS Case 2013-D034)

AGENCY: Defense Acquisition Regulations System, Department of Defense (DoD).

ACTION: Proposed rule; extension of comment period.

SUMMARY: DoD issued a proposed rule (DFARS Case 2013-D034) on August 3, 2015 to amend the Defense Federal Acquisition Regulation Supplement (DFARS) to implement a section of the National Defense Authorization Act (NDAA) for Fiscal Year (FY) 2013. The comment period on the proposed rule is being reopened and the deadline for submitting comments is being extended to November 13, 2015.

DATES: For the proposed rule published on August 3, 2015 (80 FR 45918), submit comments by November 13, 2015.

ADDRESSES: Submit comments identified by DFARS Case 2013-D034, using any of the following methods:

○ Regulations.gov: http://www.regulations.gov. Submit comments via the Federal eRulemaking portal by entering “DFARS Case 2013-D034” under the heading “Enter keyword or ID” and selecting “Search.” Select the link “Submit a Comment” that corresponds with “DFARS Case 2013-D034.” Follow the instructions provided at the “Submit a Comment” screen. Please include your name, company name (if any), and “DFARS Case 2013-D034” on your attached document.

○ Email: osd.dfars@mail.mil. Include DFARS Case 2013-D034 in the subject line of the message.

○ Fax: 571-372-6094.

○ Mail: Defense Acquisition Regulations System, Attn: Mr. Mark Gomersall, OUSD(AT&L)DPAP/DARS, Room 3B855, 3060 Defense Pentagon, Washington, DC 20301-3060.

Comments received generally will be posted without change to http://www.regulations.gov, including any personal information provided. To confirm receipt of your comment(s), please check www.regulations.gov, approximately two to three days after submission to verify posting (except allow 30 days for posting of comments submitted by mail).

FOR FURTHER INFORMATION CONTACT: Mr. Mark Gomersall, telephone 571-372-6099.

SUPPLEMENTARY INFORMATION:

I. Background

On August 3, 2015, DoD published a proposed rule in the Federal Register at 80 FR 45918 to implement section 831 of the NDAA for FY 2013. Section 831 requires the issuance of guidance on the use of the authority to require the submission of other than cost or pricing data. The comment period for the proposed rule, which closed on October 2, 2015, is being reopened to provide additional time for interested parties to submit comments on the proposed rule. The deadline for submission of public comments is extended to November 13, 2015.

List of Subjects in 48 CFR Parts 202, 212, 215, and 252

Government procurement.

Jennifer L. Hawes,
Editor, Defense Acquisition Regulations System.

[FR Doc. 2015-26044 Filed 10-9-15; 8:45 am]

BILLING CODE 5006-01-P